DEPARTMENT OF ENERGY

Federal Energy Regulatory Commission

[Project No. 3037-013]

BTSFEO, LLC; TAI-O Associates, LP; Notice of Application for Transfer of License, and Soliciting Comments, Motions To Intervene, and Protests

October 14, 2009.

On April 10, 2009, BTSFEO, LLC (Transferor) and TAI-O Associates, LP (Transferee) filed a joint application for transfer of license of the Elizabeth Webbing Hydroelectric Project No. 3037. The project is located on the Blackstone River in Providence County, Rhode Island.

Applicants seek Commission approval to transfer the license for the Elizabeth Webbing Hydroelectric Project from BTSFEO, LLC to TAI-O Associates, LP.

Applicant Contact: For Transferor, Mr. Gene Carlino, Esq., BTSFEO, LLC, c/o Carlino Law Associates, 410 South Main Street, Providence, RI 02903, telephone (401) 831-9000, FAX (401) 831-9090.

For Transferee, Mr. Louis Yip, TAI-O Associates, LP, 521 Roosevelt Avenue, Central Falls, RI 02863, telephone (401) 965-3666, FAX (212) 504-3097.

FERC Contact: Diane M. Murray, (202) 502-8838.

Deadline for filing comments, protests, and motions to intervene: 30 days from the issuance of this notice. Comments and motions to intervene may be filed electronically via the Internet. See 18 CFR 385.2001(a)(1)(iii) and the instructions on the Commission's Web site under the “e-Filing” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project can be viewed or printed on the “eLibrary” link of Commission's Web site at http://www.ferc.gov/docs-filing/elibrary.asp. Enter the docket number (P-3037-013) in the docket number field to access the document. For assistance, call toll-free 1-866-208-3372.

Kimberly D. Bose,
Secretary.

[FR Doc. E9-25256 Filed 10-20-09; 8:45 am]

BILLING CODE 6717-01-P